POSTAL SERVICE

Privacy Act of 1974, System of Records

AGENCY: Postal Service™.

ACTION: Notice of modification to existing systems of records.

SUMMARY: The United States Postal Service® is proposing to modify three of its Privacy Act Systems of Records: USPS 810.200, http://www.usps.gov Ordering, Payment, and Fulfillment; USPS 880.000, Post Office and Retail Services; and USPS 900.000, International Services. The proposed modifications reflect changes regarding how Customs declaration forms are collected, analyzed, and reported to appropriate Federal authorities. The proposed modifications to USPS 880.000, Post Office and Retail Services, reflect administrative updates as well as the sharing of certain claims data with foreign posts as a result of changes to title 39 of the United States Code.

DATES: Any interested party may submit written comments on the proposed modifications. The proposed modifications will become effective without further notice on June 22, 2009 unless comments received on or before that date result in a contrary determination.

ADDRESSES: Written comments on this proposal should be mailed or delivered to the Records Office, U.S. Postal Service, 475 L'Enfant Plaza SW., Room 5801, Washington, DC 20260. Copies of all written comments will be available for public inspection and photocopying at the above address between 8 a.m. and 4 p.m. Monday through Friday.

FOR FURTHER INFORMATION CONTACT: Jane Eyre at 202-268-2608.

SUPPLEMENTARY INFORMATION: In this notice, USPS® is modifying three existing systems of records pursuant to the Privacy Act of 1974, 5 U.S.C. 552a: USPS 810.200, http://www.usps.com Ordering, Payment, and Fulfillment; USPS 880.000, Post Office and Retail Services; and USPS 900.000, International Services. These changes add a routine use to allow disclosure of certain Customs declaration information to the Office of Foreign Assets Control (OFAC) and other entities charged with enforcing foreign asset control policies, and to the U.S. Census Bureau (Census) for trade reporting purposes. The changes also add a routine use to permit disclosure of claims payment information to foreign posts. These changes are proposed for the reasons discussed below.

I. Background

Currently, USPS® provides Customs declaration information to U.S. Customs and Border Protection (Customs) pursuant to Federal law. The OFAC and the Census have advised the Postal Service™ of requirements to provide certain information collected on the Customs declaration forms and other records to their agencies. Consequently, we have revised the notices for Systems of Records that relate to Customs declarations. We have added 39 U.S.C. 407 as an additional authority for collection of this information. Changes to USPS 880.000 include revisions to retention periods for records and reflect changes within the organization.

II. Rationale for Changes to USPS Privacy Act Systems of Records

The OFAC is a regulatory office within the Department of the Treasury responsible for, among other things, promulgating, developing, and administering economic and trade sanctions against certain foreign countries. Some OFAC regulations apply to the Postal Service's handling of mail destined to these foreign countries.

The International Emergency Economic Powers Act (IEEPA), 50 U.S.C. 1701-1706, authorizes the President to identify and respond to unusual or extraordinary threats originating outside the United States. Under this authority, President William Clinton issued Executive Orders 12957, 12959, and 13059, each of which prohibits specific transactions (including shipments of certain goods) with respect to the designated countries. In response to these orders, OFAC issued comprehensive regulations governing such shipments and transactions (31 CFR Chapter V). The Postal Service™ is subject to these regulations and must implement procedures to ensure compliance. Procedures include the capture of Customs information for certain mailpieces, the transmission of information to the OFAC (31 CFR 501.602), and the retention of related records for at least 5 years (31 CFR 501.601).

A prior Federal Register notice, dated May 6, 2005 (70 FR 24128-24129), established that Customs information may be disclosed to appropriate U.S. Customs officials under Privacy Act System of Records USPS 900.000, International Services, and, to the extent necessary, USPS 810.200, http://www.usps.com Ordering, Payment, and Fulfillment. These systems of records have been modified to add a routine use allowing disclosure to the OFAC.

Pursuant to 13 U.S.C. 301-309, the Census is responsible for collecting statistical data on foreign trade. While the mail has historically been exempt from this program, the Foreign Relations Authorization Act of 2002 (Pub. L. 107-228) amended 13 U.S.C. 303 to end the exemption. As a result, the Postal Service™ and its customers are now subject to the filing requirements in Census's Foreign Trade Regulations (15 CFR Part 30). These regulations on outbound international shipments require Customs declarations forms and other accompanying documentation to include the following:

(i) A proof of filing citation showing that electronic export information has been filed via the Census's Automated Export System (AES);

(ii) An AES Downtime Citation indicating that an unsuccessful attempt was made to file electronic export information; or

(iii) An Exemption or Exclusion Legend showing that the goods are exempt from the filing requirements.

The Foreign Trade Regulations require this information to be forwarded to both Customs and the Census's Bureau of Industry and Security upon collection (15 CFR 30.8(a)). Changes to USPS 900.000 and 810.200 are required to add new routine uses allowing disclosure of this information to the Census.

USPS 880.000 is being updated to reflect changes enacted in the Postal Accountability and Enhancement Act of 2006 (Pub. L. 109-435), organizational changes, and updates to record retention schedules.

III. Description of Changes to Systems of Records

The Postal Service™ is modifying three systems of records: USPS 810.200, http://www.usps.com Ordering, Payment, and Fulfillment; USPS 880.000, Post Office and Retail Services; and USPS 900.000, International Services. Pursuant to 5 USC 552a(e)(11), interested persons are invited to submit written data, views, or arguments on this proposal. A report of the proposed modification has been sent to Congress and to the Office of Management and Budget for their evaluation. The Postal Service does not expect this amended notice to have any adverse effect on individual privacy rights. The Postal Service proposes amending the systems as shown below:

USPS 810.200

SYSTEM NAME:

http://www.usps.com Ordering, Payment, and Fulfillment.

USPS 880.000

SYSTEM NAME:

Post Office and Retail Services.

USPS 900.000

SYSTEM NAME:

International Services.

USPS 810.200

SYSTEM NAME:

http://www.usps.com Ordering, Payment, and Fulfillment.

* * * * *

Categories of Records in the System:

* * * * *

[CHANGE TO READ:]

3. Shipping and transaction information: Product and/or service ID numbers, descriptions, value, date, postage and fees, and prices; name and address(es) of recipients; order number and delivery status; electronic address lists; electronic documents or images; job number; and applicable citation or legend required by the Foreign Trade Regulations.

4. Claims submitted for lost or damaged merchandise.

* * * * *

AUTHORITY FOR MAINTENANCE OF SYSTEM:

[CHANGE TO READ:]

39 U.S.C. 401, 403, 404, 407; 13 U.S.C. 301-307; 50 U.S.C. 1702.

PURPOSE(S):

* * * * *

[CHANGE TO READ:]

6. To satisfy reporting requirements for customs and foreign assets control purposes.

7. To satisfy statistical reporting requirements for foreign trade.

ROUTINE USES OF RECORDS IN THE SYSTEM, INCLUDING CATEGORIES OF USERS AND THE PURPOSES OF SUCH USES:

[CHANGE TO READ:]

a. Customs declaration records may be disclosed to domestic and foreign customs officials pursuant to Section 343(a) of the Trade Act of 2002, Public Law 107-210, and international agreements or regulations.

b. Records may be disclosed to the Office of Foreign Assets Control and other government authorities charged with enforcing assets control laws, rules, and policies, pursuant to 50 U.S.C. 1702.

c. Customs declaration records may be disclosed to the U.S. Census Bureau for export statistical purposes pursuant to 13 U.S.C. 301-307.

STORAGE:

[CHANGE TO READ:]

Automated databases, computer storage media, digital, and paper files.

SYSTEMS MANAGER(S) AND ADDRESS:

[CHANGE TO READ:]

President, Mailing and Shipping Services, United States Postal Service, 475 L'Enfant Plaza, SW., Washington, DC 20260. Chief Financial Officer and Executive Vice President, United States Postal Service, 475 L'Enfant Plaza, SW., Washington, DC 20260.

* * * * *

USPS 880.000

SYSTEM NAME:

Post Office and Retail Services.

SYSTEM LOCATION:

[CHANGE TO READ:]

USPS Headquarters, Consumer Advocate; Integrated Business Solutions Services Centers; Accounting Service Centers; and USPS facilities, including Post Offices (New Jersey, as an exception, does not store passport information in Post Offices) and contractor locations.

CATEGORIES OF INDIVIDUALS COVERED BY THE SYSTEM:

[CHANGE TO READ:]

1. Customers who apply for or purchase products and services at Post Offices, online, or at other retail sites. This includes products and services related to passports, Post Office boxes, caller services, and self-service equipment.

2. Senders and recipients of Extra Services.

* * * * *

4. Customers with inquiries or claims relating to Extra Services.

CATEGORIES OF RECORDS IN THE SYSTEM:

* * * * *

[CHANGE TO READ:]

5. Claim and inquiry information: Mailer and addressee name, mail and e-mail address, and phone number; claimant signature; claim or inquiry description, number, and status.

* * * * *

7. Product information: Article number and class/services purchased.

AUTHORITY FOR MAINTENANCE OF SYSTEM:

[CHANGE TO READ:]

39 U.S.C. 401, 403, 404, 407, 411; 22 U.S.C. 214; 31 U.S.C. 7701.

PURPOSE:

* * * * *

[CHANGE TO READ:]

3. To respond to inquiries and claims related to Extra Services.

STORAGE:

[CHANGE TO READ:]

Automated databases, computer storage media, and digital and paper files.

RETRIEVABILITY:

[CHANGE TO READ:]

By name, customer ID(s), phone number, mail or e-mail address, or transaction or article number.

RETENTION AND DISPOSAL:

[CHANGE TO READ:]

1. Passport applications are mailed on the day of acceptance with fees and documentation. Records related to passports are retained 2 years.

2. Records related to Extra Services for domestic and international Express Mail items are retained up to 1 year.

3. Domestic and international Extra Services records are retained 2 years. Records relating to Post Office boxes and caller services are retained up to 3 years after the customer relationship ends.

* * * * *

SYSTEMS MANAGER(S) AND ADDRESS:

[CHANGE TO READ:]

President, Mailing and Shipping Services, United States Postal Service, 475 L'Enfant Plaza SW., Washington, DC 20260. Vice President, Delivery and Post Office Operations, United States Postal Service, 475 L'Enfant Plaza SW., Washington, DC 20260. Vice President and Managing Director, Global Business, United States Postal Service, 475 L'Enfant Plaza SW., Washington, DC 20260.

NOTIFICATION PROCEDURE:

* * * * *

[CHANGE TO READ:]

For Extra Services, information can be obtained from the facility where the service was obtained, or can be accessed on http://www.usps.com. Inquiries should include name, date of mailing, and article number. For domestic or international Extra Services claims, customers can write a letter, including name, date of claim, and claim number, to Accounting Services, P.O. Box 80143 (for domestic claims) or P.O. Box 80146 (for international claims), St. Louis, MO, 63180, or can call 1-866-974-2733. For international inquiries, customers can call 1-800-222-1811.

* * * * *

USPS 900.000

SYSTEM NAME:

International Services.

* * * * *

Categories of Records in the System:

* * * * *

[CHANGE TO READ:]

3. Information pertaining to mailings: Contents, order number, volume, destination, weight, origin, value, date, postage and fees, type of mailing, and applicable citation or legend required by the Foreign Trade Regulations.

* * * * *

AUTHORITY FOR MAINTENANCE OF SYSTEM:

[CHANGE TO READ:]

39 U.S.C. 401, 403, 404, 407; 13 U.S.C. 301-307; 50 U.S.C. 1702.

PURPOSE(S):

* * * * *

[CHANGE TO READ:]

4. To satisfy reporting requirements for customs and foreign assets control purposes.

5. To satisfy statistical reporting requirements for foreign trade.

ROUTINE USES OF RECORDS IN THE SYSTEM, INCLUDING CATEGORIES OF USERS AND THE PURPOSES OF SUCH USES:

[CHANGE TO READ:]

a. Customs declaration records may be disclosed to domestic and foreign customs officials pursuant to Section 343(a) of the Trade Act of 2002, Public Law 107-210, and international agreements or regulations.

b. Records may be disclosed to the Office of Foreign Assets Control and other government authorities charged with enforcing assets control laws, rules, and policies, pursuant to 50 U.S.C. 1702.

c. Customs declaration records may be disclosed to the U.S. Census Bureau for export statistical purposes pursuant to 13 U.S.C. 301-307.

STORAGE:

[CHANGE TO READ:]

Automated databases, computer storage media, and digital and paper files.

RETENTION AND DISPOSAL:

[CHANGE TO READ:]

1. Customs declaration records created by mailers under international customized mail agreements are retained 5 years, and then purged according to the requirements of domestic and foreign Customs services. Other customs declaration records are retained 30 days.

2. Customs declarations to OFAC are retained 5 years.

* * * * *

SYSTEMS MANAGER(S) AND ADDRESS:

[CHANGE TO READ:]

Vice President and Managing Director, Global Business, United States Postal Service, 475 L'Enfant Plaza SW., Washington, DC 20260.

* * * * *

Stanley F. Mires,
Chief Counsel, Legislative.

[FR Doc. E9-10999 Filed 5-11-09; 8:45 am]

BILLING CODE 7710-12-P